INTERNATIONAL TRADE COMMISSION

19 CFR Chapter II

Retrospective Analysis of Existing Rules

AGENCY: International Trade Commission.

ACTION: Notice of proposed rule.

SUMMARY: The United States International Trade Commission (Commission) seeks comments from the public as to Commission rules that might be suitable for modification or elimination.

FOR FURTHER INFORMATION CONTACT: Paul R. Bardos, Office of the General Counsel, United States International Trade Commission, telephone 202-205-3102. Hearing-impaired individuals are advised that information on this matter can be obtained by contacting the Commission's TDD terminal at 202-205-1810. General information concerning the Commission may also be obtained by accessing its Internet server (http://www.usitc.gov).

DATES: Comment Date: To be assured of consideration, written comments must be received by 5:15 p.m. October 9, 2012.

SUPPLEMENTARY INFORMATION: In response to Executive Order 13579 of July 11, 2011, the Commission recently adopted its Plan for Retrospective Analysis of Existing Rules. 77 FR 8114 (Feb. 14, 2012). This Plan provides that the Commission will, every two years, review its significant regulations to determine whether any should be modified, streamlined, expanded, or repealed so as to make the agency's regulatory program more effective or less burdensome in achieving regulatory objectives. The Commission is now conducting such a periodic review, and invites comments from the public as to Commission rules that might be suitable for modification or elimination. Comments that were submitted in connection with the Commission's Preliminary Plan for Retrospective Analysis of Existing Rules (76 FR 66004 (Oct. 25, 2011)) will be considered in this review and need not be resubmitted.

Examples of Rules for Retrospective Review

The Commission has preliminarily identified the following aspects of its existing rules for review over the next two years:

1. General review of existing regulations in 19 CFR parts 201, 207, and 210. The Commission will seek to determine whether any such regulations shall be modified, streamlined, expanded or repealed so as to make the agency's regulations more effective or less burdensome.

2. Employee Responsibilities and Conduct, 19 CFR part 200. The Commission intends to review its regulations addressing employee responsibilities and conduct, to assess whether these regulations can be modified or repealed, in light of the issuance of similar regulations by the Office of Government Ethics.

3. National Security Information, 19 CFR part 201, Subpart F. The Commission intends to review its regulations addressing national security information, to assess whether these regulations should be modified, in light of Executive Order 13526 (Dec. 29, 2009).

4. Investigations With Respect to Commercial Availability of Textile Fabric and Yarn in Sub-Saharan African Countries, 19 CFR part 208. The Commission intends to review its regulations addressing investigations with respect to the commercial availability of textile fabric and yarn in Sub-Saharan African countries, to assess whether these regulations can be repealed, in light of the repeal of section 112(c)(2) of the African Growth and Opportunity Act (AGOA), which required the Commission to make determinations with respect to the commercial availability and use of regional textile fabric or yarn in lesser developed beneficiary sub-Saharan African countries in the production of apparel articles receiving U.S. preferential treatment under AGOA (see section 3(a)(2)(B) of Pub. L. 110-436, October 16, 2008, 122 Stat. 4980).

This list is non-exhaustive and the Commission will consider whether other parts of its regulations should also be subject to review within the next two years.

Public Participation

Instructions: Persons filing written submissions must file the original document electronically on or before the deadlines stated above and submit 8 true paper copies to the Office of the Secretary (U.S. International Trade Commission, 500 E Street SW., Room 112, Washington, DC 20436) by noon the next day pursuant to section 201.8 of the Commission's Rules of Practice and Procedure (19 CFR 201.8). Submissions should refer to the investigation number (MISC-038) in a prominent place on the cover page and/or the first page. (See Handbook for Electronic Filing Procedures, http://www.usitc.gov/secretary/fed_reg_notices/rules/handbook_on_electronic_filing.pdf). Persons with questions regarding filing should contact the Secretary (202-205-2000). All comments received will be posted without change to http://www.edis.usitc.gov, including any personal information provided.

Docket: For access to the docket to read comments received, go to http://www.edis.usitc.gov or U.S. International Trade Commission, 500 E Street SW., Room 112, Washington, DC 20436.

By Order of the Commission.
Issued: August 2, 2012.
William R. Bishop,
Hearings and Meetings Coordinator.

[FR Doc. 2012-19296 Filed 8-8-12; 8:45 am]

BILLING CODE 7020-02-P